DEPARTMENT OF HEALTH AND HUMAN SERVICES

National Institutes of Health

National Center for Research Resources; Notice of Closed Meetings

Pursuant to section 10(d) of the Federal Advisory Committee Act, as amended (5 U.S.C. Appendix 2), notice is hereby given of the following meetings.

The meetings will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: National Center for Research Resources Special Emphasis Panel, Roadmap Interdisciplinary Center.

Date: May 2-3, 2007.

Time: 8 a.m. to 5 p.m.

Agenda: To review and evaluate grant applications.

Place: Doubletree Hotel & Executive Meeting Center, 8120 Wisconsin Avenue, Bethesda, MD 20814.

Contact Person: Carol Lambert, PhD, Scientific Review Administrator, National Center for Research Resources, or, National Institutes of Health, 6701 Democracy Blvd., 1 Democracy Plaza, Room 1076, MSC 4874, Bethesda, MD 20892-4874, 301-435-0814, lambert@mail.nih.gov.

Name of Committee: National Center for Research Resources Special Emphasis Panel, 2007 CTSA Meeting #1.

Date: May 8-9, 2007.

Time: 8 a.m. to 5 p.m.

Agenda: To review and evaluate grant applications.

Place: Doubletree Bethesda, 8120 Wisconsin Ave, Bethesda, MD 20814.

Contact Person: Mohan Viswanathan, PhD, Deputy Director, Office of Review, NCRR, National Institutes of Health, 6701 Democracy Blvd., Room 1084, MSC 4874, 1 Democracy Plaza, Bethesda, MD 20892-4874, 301-435-0829, mv10f@nih.gov.

Name of Committee: National Center for Research Resources Special Emphasis Panel, Residency II.

Date: May 8, 2007.

Time: 8 a.m. to 5 p.m.

Agenda: To review and evaluate grant applications.

Place: Double Tree Rockville (Remodeled to Hilton), 1750 Rockville Pike, Rockville, MD 20852.

Contact Person: John R. Glowa, PhD, Scientific Review Administrator, National Center for Research Resources, or, National Institutes of Health, 6701 Democracy Blvd., 1 Democracy Plaza, Room 1078—Msc 4874, Bethesda, MD 20892-4874, 301-435-0807, glowaj@mail.nih.gov.

Name of Committee: National Center for Research Resources Special Emphasis Panel, 2007 CTSA Meeting #2.

Date: May 15-16, 2007.

Time: 8 a.m. to 5 p.m.

Agenda: To review and evaluate grant applications.

Place: Doubletree Bethesda, 8120 Wisconsin Ave, Bethesda, MD 20814.

Contact Person: Mohan Viswanathan, PhD, Deputy Director, Office of Review, NCRR, National Instiutes of Health, 6701 Democracy Blvd., Room 1084, MSC 4874, 1 Democracy Plaza, Bethesda, MD 20892-4874, 301-435-0829, mv10f@nih.gov.

Name of Committee: National Center for Research Resources Special Emphasis Panel, 2007 BT Review Mtg#1.

Date: May 23, 2007.

Time: 8 a.m. to 5 p.m.

Agenda: To review and evaluate grant applications.

Place: Doubletree Bethesda, 8120 Wisconsin Ave., Bethesda, MD 20814.

Contact Person: Steven Birken, PhD, Scientific Review Administrator, National Institutes of Health, National Center for Research Resources, Office of Review, 6701 Democracy Blvd., 1 Democracy Plaza, Room 1078, Bethesda, MD 20892, (301) 435-0815, birkens@mail.nih.gov.

Name of Committee: National Center for Research Resources Special Emphasis Panel, 2007 BT Review Mtg.#2.

Date: June 12-13, 2007.

Time: 8 a.m. to 5 p.m.

Agenda: To review and evaluate grant applications.

Place: Gaithersburg Marriott Washingtonian Center, 9751 Washingtonian Boulevard, Gaithersburg, MD 20878.

Contact Person: Steven Birken, PhD, Scientific Review Administrator, National Institutes of Health, National Center for Research Resources, Office of Review, 6701 Democracy Blvd., 1 Democracy Plaza, Room 1078, Bethesda, MD 20892, (301) 435-0815, birkens@mail.nih.gov.

(Catalogue of Federal Domestic Assistance Program Nos. 93.306, Comparative Medicine; 93.333, Clinical Research; 93.371, Biomedical Technology; 93.389, Research Infrastructure, 93.306, 93.333, National Institutes of Health, HHS)

Dated: April 4, 2007.
Anna Snouffer,
Deputy Director, Office of Federal Advisory Committee Policy.

[FR Doc. 07-1767 Filed 4-9-07; 8:45 am]

BILLING CODE 4140-01-M